DEPARTMENT OF ENERGY

Federal Energy Regulatory Commission

Combined Notice of Filings

Take notice that the Commission has received the following Natural Gas Pipeline Rate and Refund Report filings:

Filings Instituting Proceedings

Docket Numbers: RP17-841-000.

Applicants: Black Hills Shoshone Pipeline, LLC.

Description: Black Hills Shoshone Pipeline, LLC submits tariff filing per 154.203: Cost and Revenue Study—Re Docket No. CP15-32-000 and CP15-33-000.

Filed Date: 06/26/2017.

Accession Number: 20170626-5003.

Comment Date: 5:00 p.m. Eastern Time on Monday, July 10, 2017.

Docket Numbers: RP17-842-000.

Applicants: Texas Gas Transmission, LLC.

Description: Texas Gas Transmission, LLC submits tariff filing per 154.204: Replacement Ex As for N/C Agmts due to Meter Change to be effective 7/1/2017.

Filed Date: 06/26/2017.

Accession Number: 20170626-5007.

Comment Date: 5:00 p.m. Eastern Time on Monday, July 10, 2017.

Docket Numbers: RP17-843-000.

Applicants: Texas Gas Transmission, LLC.

Description: Texas Gas Transmission, LLC submits tariff filing per 154.204: Replacement Ex A for Neg Rate Agmt due to Meter Change to be effective 7/1/2017.

Filed Date: 06/26/2017.

Accession Number: 20170626-5008.

Comment Date: 5:00 p.m. Eastern Time on Monday, July 10, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 27, 2017.
Nathaniel J. Davis, Sr.,
Deputy Secretary.

[FR Doc. 2017-14019 Filed 7-3-17; 8:45 am]

BILLING CODE 6717-01-P